DEPARTMENT OF ENERGY

Federal Energy Regulatory Commission

[Docket No. RP07-130-001]

Mississippi Canyon Gas Pipeline, LLC; Notice of Compliance Filing

March 7, 2007.

Take notice that on March 6, 2007, Mississippi Canyon Gas Pipeline, LLC (Mississippi Canyon) tendered for filing as part of its FERC Gas Tariff, First Revised Volume No. 1, the following tariff sheets, to become effective April 5, 2007:

First Revised Sheet No. 16

Third Revised Sheet No. 22

Second Revised Sheet No. 259

First Revised Sheet No. 260

First Revised Sheet No. 299

Mississippi Canyon states that it is filing these tariff sheets in order to remove the minimum reserve commitment requirement and the minimum Maximum Daily Quantity requirement for Rate Schedule FT-2 service from its tariff, in order to comply with the Commission's February 9, 2007 Letter Order, 118 FERC ¶ 61,090 (2007), issued in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Philis J. Posey,
Acting Secretary.

[FR Doc. E7-4485 Filed 3-12-07; 8:45 am]

BILLING CODE 6717-01-P